MILLENNIUM CHALLENGE CORPORATION

[MCC FR 08-03]

Notice of the March 11, 2008 Millennium Challenge Corporation Board of Directors Meeting; Sunshine Act Meeting

AGENCY: Millennium Challenge Corporation.

TIME AND DATE: 10 a.m. to 12 p.m., Tuesday, March 11, 2008.

PLACE: Department of State, 2201 C Street, NW., Washington, DC 20520.

FOR FURTHER INFORMATION CONTACT: Information on the meeting may be obtained from Suzi M. Morris via e-mail at Board@mcc.gov or by telephone at (202) 521-3600.

STATUS: Meeting will be closed to the public.

MATTERS TO BE CONSIDERED: The Board of Directors (the “Board”) of the Millennium Challenge Corporation (“MCC”) will hold a meeting to discuss and consider selection issues that were deferred from its December 12, 2007 meeting; implementation issues affecting a number of MCC's compact countries; and certain administrative matters.

The agenda items are expected to involve the discussion of classified information and the meeting will be closed to the public.

Dated: February 27, 2008.
William G. Anderson, Jr.,
Vice President and General Counsel, Millennium Challenge Corporation.

[FR Doc. 08-921 Filed 2-27-08; 2:10 pm]

BILLING CODE 9211-03-M